DEPARTMENT OF DEFENSE

Department of the Army

[Docket ID USA-2009-0002]

Privacy Act of 1974; System of Records

AGENCY: Department of the Army, DoD.

ACTION: Notice to add a system of records.

SUMMARY: The Department of the Army is proposing to add a system of records in its existing inventory of records systems subject to the Privacy Act of 1974 (5 U.S.C. 552a), as amended.

DATES: The proposed action will be effective on March 19, 2009 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on January 30, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: February 11, 2009.
Morgan E. Frazier,
Alternate OSD Federal Register Liaison Officer, Department of Defense.

A0195-2d USACIDC DoD

System Name:

Defense Criminal Investigation DNA Database and Sample Repository; CODIS Records.

System Location:

U.S. Army Criminal Investigation Laboratory, 4930 N 31st Street, Forest Park, GA 30297-5205.

Categories of Individuals Covered by the System:

Department of Defense military personnel from whom DNA has been collected under applicable laws and regulations as noted below under authority for maintenance of the system.

Civilians from whom DNA has been collected by military investigators under applicable laws and regulations as noted below under authority for maintenance of the system.

Civilian or military family members who are the close biological relatives of missing persons and who voluntarily provide specimens for DNA typing.

Persons associated with law enforcement and/or criminal investigations reported as missing or whose whereabouts are unknown and sought.

DoD civilian and contractor personnel working at the U.S. Army Criminal Investigation Laboratory or other law enforcement activities who provide specimens for DNA typing for elimination purposes and/or whose names are required for sample processing.

Persons of unknown identity whose DNA is recovered from a crime scene or carried away from a crime scene.

Categories of Records in the System:

Specimen collections from which a DNA analysis can be obtained (buccal (oral) samples, blood samples), and DNA analyses. Accession number, collection kit number, specimen tracking information, collection date, place of collection, court orders, criminal offense information, individual's name, Social Security Number (SSN), fingerprints, branch of service, date of birth. Documentation and data required to manage and operate the Combined DNA Index System (CODIS). DNA analyses from crime scene evidence, missing persons, relatives of missing persons and unidentified human remains.

Authority for Maintenance of the System:

10 U.S.C 3013, Secretary of the Army; 10 U.S.C. 1565, DNA Sample Collection, Analysis, and Indexing; 42 U.S.C. 14132 et seq., Index to facilitate law enforcement exchange of DNA identification information; Army Regulation 195-2; The DNA Analysis Backlog Elimination Act of 2000, Public Law 106-546; U.S.A. Patriot Act, Pub. L. 107-56; The Justice for All Act of 2004, Public Law 108-405; The DNA Fingerprint Act of 2005, Public Law 109-162; Adam Walsh Child Protection and Safety Act of 2006, Public Law 109-248; Department of Justice Implementing Rules, DNA Sample Collection and Biological Evidence Preservation in the Federal Jurisdiction, 28 CFR Part 28; DoD Policy on Collecting DNA Samples from Military Prisoners, April 18, 2005, Dr. David Chu, Under Secretary of Defense and E.O. 9397 (SSN).

Purpose:

Information will be used for criminal and missing person investigations; quality assurance and control; department protocol development; management studies; to generate statistics on the database and department forensic identification research.

Routine uses of records maintained in the system, including categories of users and the purpose of such uses:

In addition to those disclosures generally permitted under 5 U.S.C. 552a(b) of the Privacy Act, the records or information contained herein may specifically be disclosed outside the DoD as a routine use pursuant to 5 U.S.C. 552a(b)(3) as follows:

To Federal, state, local, tribal and foreign criminal justice agencies for law enforcement identification purposes and for missing person identification purposes. Information concerning criminal or possible criminal activity is disclosed to Federal, state, local and/or foreign law enforcement agencies whose need is related to the enforcement of criminal law.

To a proper authority in connection with judicial proceedings, if otherwise admissible pursuant to requested law and regulations including by facially valid court order.

To a defendant, for criminal defense purposes, who shall have access to samples and analyses performed in connection with the case in which such defendant is charged.

To criminal justice agencies, if personally identifiable information is removed, for identification research and protocol development or for quality control purposes.

To a close biological relative of a missing person, who shall have access to analyses performed on his or her own sample, where that sample was submitted to help identify the missing person.

To DoD civilian employees and contractor personnel working at the United States Army Criminal Investigation Laboratory or other law enforcement activities, who shall have access to analyses performed on their own samples.

To the National DNA Index System (NDIS) for use in criminal investigations and missing person investigations, where allowable.

The DoD “Blanket Routine Uses” set forth at the beginning of the Army's, Navy's, Marine Corps' and Air Force's compilation of systems of records notices also apply to this system of records.

Policies and practices for storing, retrieving, accessing, retaining and disposing of records in the system:

Storage:

In paper file folders and/or electronic storage media. Samples are stored by a method consistent with the method of collection and may be stored in file cabinets at room temperature or in freezers.

Retrievability:

By name, Social Security Number (SSN), date of birth, accession number, DNA profile, and/or fingerprints.

Safeguards:

The United States Army Criminal Investigation Laboratory is a continuously monitored secure facility with access controlled by card key. All personnel have security clearance. Access to spaces within the laboratory where data and samples are maintained is further controlled by cipher lock. All workstations are password protected.

Retention and Disposal:

Disposition is pending upon National Archives and Record Administration approval, until then treat as Permanent.

System Manager and Address:

Director, U.S. Army Criminal Investigation Laboratory, ATTN: Operations, 4930 N 31st Street, Forest Park, GA 30297-5205.

Notification Procedures:

Individuals seeking to determine whether information about themselves is contained in this system should address written inquiries to the Director, U.S. Army Crime Records Center, U.S. Army Criminal Investigation Command, ATTN: CICR-FP, 6010 6th Street, Building 1465, Fort Belvoir, VA 22060-5585.

Requests must be made in writing and contain sufficient information to uniquely identify a record (such as full name, date of birth and Social Security Number (SSN)).

Record Access Procedures:

Individuals seeking to access records about themselves contained in this record system should address written inquiries to the Director, U.S. Army Crime Records Center, U.S. Army Criminal Investigation Command, ATTN: CICR-FP, 6010 6th Street, Building 1465, Fort Belvoir, VA 22060-5585.

Requests must be made in writing and contain sufficient information to uniquely identify a record (such as full name, date of birth and Social Security Number (SSN)).

Contesting Records Procedures:

The Army's rules for access to records and for contesting contents and appealing initial determinations are contained in AR 340-21 (32 CFR part 505) or may be obtained from the systems manager.

Record Source Categories:

DoD criminal justice agencies and personnel including, but not limited, to legal offices, investigative offices and confinement facilities. Other CODIS and/or NDIS participating laboratories.

Exemptions:

Parts of this system may be exempt pursuant to 5 U.S.C. 552a(j)(2) if the information is compiled and maintained by a component of the agency that performs as its principle function any activity pertaining to the enforcement of criminal laws.

An exemption rule for this record system has been promulgated according to the requirements of 5 U.S.C. 553(b)(1), (2), and (3), (c) and (e) and published in 32 CFR part 505. For additional information contact the system manager.

[FR Doc. E9-3372 Filed 2-13-09; 8:45 am]

BILLING CODE 5001-06-P